DEPARTMENT OF TRANSPORTATION

Maritime Administration

46 CFR Parts 221, 315, and 355

[Docket No. MARAD 2004-18059]

RIN 2133-AB59

Shipping—Technical Amendments

AGENCY: Department of Transportation, Maritime Administration.

ACTION: Final rule.

SUMMARY: This final rule makes minor technical changes to terms and definitions in title 46 of the Code of Federal Regulations (CFR). The minor technical changes update the title to conform to 46 App. U.S.C. 802, which was amended by the Coast Guard Authorization Act of 1998. This rulemaking will have no substantive effect on the regulated public.

EFFECTIVE DATE: This final rule is effective on June 21, 2004.

FOR FURTHER INFORMATION CONTACT: Murray A. Bloom, Chief, Division of Maritime Programs, Office of Chief Counsel, Maritime Administration, 400 7th Street, SW., Room 7228, Washington, DC 20590; telephone: (202) 366-5164; fax: (202) 366-3511.

ADDRESSES: This final rule is available for inspection and copying between 10 a.m. and 5 p.m., e.t., Monday through Friday, except Federal holidays, at the Docket Clerk, U.S. DOT Dockets, Room PL-401, Department of Transportation, 400 7th Street, SW., Washington, DC 20590-0001. An electronic version of this document is available on the World Wide Web at http://dms.dot.gov.

SUPPLEMENTARY INFORMATION: MARAD is updating its regulations under 46 CFR parts 221, 315, and 355 to conform to 46 App. U.S.C. 802, which was amended by the Coast Guard Authorization Act of 1998, section 421 of Pub. L. 105-383. The changes eliminate references to company or entity presidents and instead include such individuals under the category of “chief executive officer, by whatever title.”

Rulemaking Analyses and Notices

Executive Order 12866 (Regulatory Planning and Review), and Department of Transportation (DOT) Regulatory Policies; Pub. L. 104-121

This final rule is not considered a significant regulatory action under section 3(f) of Executive Order 12866 and, therefore, was not reviewed by the Office of Management and Budget. This final rule will not result in an annual effect on the economy of $100 million or more. It also is not considered a major rule for purposes of Congressional review under Pub. L. 104-121. This final rule is also not significant under the Regulatory Policies and Procedures of the Department of Transportation (44 FR 11034, February 26, 1979). The costs and overall economic impact of this rulemaking are so minimal that no further analysis is necessary.

Administrative Procedure Act

The Administrative Procedure Act (5 U.S.C. 553) provides an exception to notice and comment procedures when they are unnecessary or contrary to the public interest. MARAD finds that under 5 U.S.C. 553(b)(3)(B), good cause exists for not providing notice and comment since this final rule only implements minor technical changes to the wording of existing regulations under 46 CFR parts 221, 315, and 355, which have no substantive effect on the regulated public. Under 5 U.S.C. 553(d)(3), MARAD finds that, for the same reasons, good cause exists for making this rule effective less than 30 days after publication in the Federal Register.

Federalism

We analyzed this final rule in accordance with the principles and criteria contained in Executive Order 13132 (“Federalism”) and have determined that it does not have sufficient federalism implications to warrant the preparation of a federalism summary impact statement. The regulations have no substantial effects on the States, the current Federal-State relationship, or the current distribution of power and responsibilities among various local officials. Therefore, consultation with State and local officials was not necessary.

Executive Order 13175

MARAD does not believe that this final rule will significantly or uniquely affect the communities of Indian tribal governments when analyzed under the principles and criteria contained in Executive Order 13175 (Consultation and Coordination with Indian Tribal Governments). Therefore, the funding and consultation requirements of this Executive Order do not apply.

Regulatory Flexibility

The Maritime Administrator certifies that this final rule will not have a significant economic impact on a substantial number of small entities. This final rule only makes minor technical changes to terms and definitions in title 46 of the CFR, which have no substantive effect on the regulated public.

Environmental Assessment

We have analyzed this final rule for purposes of compliance with the National Environmental Policy Act of 1969 (42 U.S.C. 4321 et seq.) and have concluded that under the categorical exclusions provision in section 4.05 of Maritime Administrative Order (MAO) 600-1, “Procedures for Considering Environmental Impacts,” 50 FR 11606 (March 22, 1985), neither the preparation of an Environmental Assessment, an Environmental Impact Statement, nor a Finding of No Significant Impact is required for this rulemaking. This rulemaking has no environmental impact.

Paperwork Reduction Act

This rulemaking contains no new or amended information collection or recordkeeping requirements that have been approved or require approval by the Office of Management and Budget.

Unfunded Mandates Reform Act of 1995

This final rule will not impose an unfunded mandate under the Unfunded Mandates Reform Act of 1995. It will not result in costs of $100 million or more, in the aggregate, to any of the following: State, local, or Native American tribal governments, or the private sector. This final rule is the least burdensome alternative that achieves the objective of U.S. policy.

List of Subjects

46 CFR Part 221

Administrative practice and procedure, Maritime carriers, Mortgages, Penalties, Reporting and recordkeeping requirements, Trust and trustees.

46 CFR Part 315

Government contracts, National defense, Vessels.

46 CFR Part 355

Citizenship and naturalization, Maritime carriers, Reporting and recordkeeping requirements.

For the reasons set forth in the preamble, MARAD amends 46 CFR chapter II as follows:

PART 221—REGULATED TRANSACTIONS INVOLVING DOCUMENTED VESSELS AND OTHER MARITIME INTERESTS

1. The authority citation for part 221 continues to read as follows:

Authority: 46 App. U.S.C. 802, 803, 808, 835, 839, 841a, 1114(b), 1195; 46 U.S.C. chs. 301 and 313; 49 U.S.C. 336; 49 CFR 1.66.

2. Amend § 221.3 by revising paragraphs (c)(2) and (c)(4) to read as follows:

§ 221.3 Definitions.

* * * * *

(c)* * *

(2) A corporation organized under the laws of the United States or of a State, the Controlling Interest of which is owned by and vested in Citizens of the United States and whose chief executive officer, by whatever title, chairman of the board of directors and all officers authorized to act in the absence or disability of such persons are Citizens of the United States, and no more of its directors than a minority of the number necessary to constitute a quorum are Noncitizens;

* * * * *

(4) An association organized under the laws of the United States or of a State, whose chief executive officer, by whatever title, chairman of the board of directors (or equivalent committee or body) and all officers authorized to act in their absence or disability are Citizens of the United States, no more than a minority of the number of its directors, or equivalent, necessary to constitute a quorum are Noncitizens, and a Controlling Interest in which is vested in Citizens of the United States;

* * * * *

PART 315—AGENCY AGREEMENTS AND APPOINTMENT OF AGENTS

3. The authority citation for part 315 continues to read as follows:

Authority: 50 U.S.C. App. 1744; 49 CFR 1.66.

4. Amend § 315.3 by revising paragraphs (b)(2) and (b)(4) to read as follows:

§ 315.3 Definitions.

* * * * *

(b)* * *

(2) A corporation organized under the laws of the United States or of a State, the controlling interest of which is owned by and vested in Citizens of the United States and whose chief executive officer, by whatever title, chairman of the board of directors and all officers authorized to act in the absence or disability of such persons are Citizens of the United States, and no more of its directors than a minority of the number necessary to constitute a quorum are noncitizens;

* * * * *

(4) An association organized under the laws of the United States or of a State, whose chief executive officer, by whatever title, chairman of the board of directors (or equivalent committee or body) and all officers authorized to act in their absence or disability are Citizens of the United States, no more than a minority of the number of its directors, or equivalent, necessary to constitute a quorum are noncitizens, and a controlling interest in which is vested in Citizens of the United States;

* * * * *

PART 355—REQUIREMENTS FOR ESTABLISHING UNITED STATES CITIZENSHIP

5. The authority citation for part 355 continues to read as follows:

Authority: Secs. 2, 204, 39 Stat. 729, as amended, 49 Stat. 1987, as amended, 73 Stat. 597; 46 U.S.C. 802, 803, 1114, 11.

6. Amend § 355.1 by revising paragraph (a) to read as follows:

§ 355.1 General.

(a) Under section 2, Shipping Act, 1916, as amended and section 905(c), Merchant Marine Act, 1936, as amended, no corporation is deemed to be a citizen of the United States unless:

(1) It is organized under the laws of the United States or of a State, Territory, District, or possession thereof;

(2) Its chief executive officer, by whatever title, and the chairman of its board of directors are citizens of the United States, and no more of its directors than a minority of the number necessary to constitute a quorum are non-citizens (except that in the case of corporations under title VI, Merchant Marine Act, 1936, as amended, all directors must be citizens of the United States) and

(3) The controlling interest therein is owned by citizens of the United States or, in the case of a corporation operating any vessel in the coastwise trade, on the Great Lakes, or inland lakes of the United States, 75 per centum of the interest in such corporation is owned by citizens of the United States.

* * * * *

7. Amend § 355.2 by revising the introductory text of paragraph 3. of the sample Affidavit to read as follows:

§ 355.2 Requirements regarding evidence of U.S. citizenship; affidavit guide.

* * * * *

Affidavit of U.S. Citizenship

* * * * *

3. That the names of the Chief Executive Officer, by whatever title, Vice Presidents or other individuals who are authorized to act in the absence or disability of the Chief Executive Officer, by whatever title, the Chairman of the Board of Directors, and the Directors of the Corporation are as follows:

* * * * *

By Order of the Maritime Administrator.
Dated: June 15, 2004.
Joel C. Richard,
Secretary, Maritime Administration.

[FR Doc. 04-13788 Filed 6-18-04; 8:45 am]

BILLING CODE 4910-81-P